DEPARTMENT OF VETERANS AFFAIRS

Veterans and Community Oversight and Engagement Board, Notice of Meeting

The Department of Veterans Affairs (VA) gives notice under the Federal Advisory Committee Act (FACA), 5 U.S.C. ch. 10, that the Veterans and Community Oversight and Engagement Board will meet virtually on December 13, 2024. The meeting sessions will begin, and end as follows:

Date: | Time:
Friday, December 13, 2024 | 9:00 a.m. to 3:00 p.m. Pacific Standard Time (PST).

The meetings are open to the public and will be recorded.

The Board was established by the West Los Angeles Leasing Act of 2016 on September 29, 2016. The purpose of the Board is to provide advice and make recommendations to the Secretary of Veterans Affairs on: identifying the goals of the community and Veteran partnership; improving services and outcomes for Veterans, members of the Armed Forces, and the families of such Veterans and members; and on the implementation of the Draft Master Plan approved by the Secretary on January 28, 2016, and on the creation and implementation of any successor master plans.

On December 13, the agenda will include opening remarks from the Committee Chair and the Executive Sponsor. There will be a general update from VA Greater Los Angeles Healthcare System (VAGLAHS). The West Los Angeles Veterans Collective will provide a status briefing all activities since June 2024. The Urban Land Institute will present the results of their Implementation Technical Assistance Panel (ITAP) study. An update on the status and projected efforts related to Master Plan 2025, and an overview of the VA Survey on Veteran Preferences results will be presented by (VAGLAHS) staff. The Board's subcommittees on Outreach and Community Engagement with Services and Outcomes, and Master Plan with Services and Outcomes will report on activities since the last meeting. Subcommittee reports will be followed by an out brief to the full Board on any draft recommendations considered for forwarding to the Secretary.

Time will be allocated for receiving public comments on December 13, starting at 9:40 a.m. PST. Individuals wishing to make public comments are requested to submit a 1-2-page summary of their comments for inclusion in the official meeting record or would like to share information with the Committee should contact Mr. Chihung Szeto, Alternate Designated Federal Officer, at (562) 708-9959, at Chihung.Szeto@va.gov or VEOFACA@va.gov. Only those members of the public (first 6 public comment registrants) who have confirmed registrations to provide public comment will be allowed to provide public comment. In the interest of time, each speaker will be held to 5-minute time limit. The Committee will accept written comments from interested parties on issues outlined in the meeting agenda, from December 11, 2024 to December 15, 2024.

Members of the public can attend the meeting via WEBEX by joining from the meeting link below. The link will be active from 8:45 a.m.-3:30 p.m. PST, December 13, 2024.

Veteran and Community Oversight and Engagement Board (VCOEB)

Hosted by Walsh, Margaret K. (ERPI).

https://veteransaffairs.webex.com/veteransaffairs/j.php?MTID=mef5d2ad406348e108778e341fcbbf891.

Friday, December 13, 2024, 9:00 a.m. | 6 hours | Pacific Time (US & Canada).

Meeting number: 2831 720 3971.

Password: sJMpM2pJ*32.

Any member of the public seeking additional information should contact Mr. Eugene W. Skinner Jr. at (202) 631-7645 or at Eugene.Skinner@va.gov.

Dated: November 22, 2024.
Jelessa M. Burney,
Federal Advisory Committee Management Officer.

[FR Doc. 2024-27868 Filed 11-26-24; 8:45 am]

BILLING CODE 8320-01-P